DEPARTMENT OF ENERGY

Federal Energy Regulatory Commission

Combined Notice of Filings #1

Take notice that the Commission received the following electric rate filings:

Docket Numbers: ER24-1869-000; ER24-1870-000; ER24-1871-000; ER24-1873-000; ER24-1874-000; ER24-1875-000; ER24-1876-000.

Applicants: ORNI 36 LLC, Heber Geothermal Company LLC, Mammoth Three LLC, Ormesa LLC, ORNI 18 LLC, USG Nevada LLC, VESI Pomona Energy Storage, Inc.

Description: Supplement to 04/30/2024, VESI Pomona Energy Storage, Inc. submits tariff filing Revisions to Market-Based Rate Tariffs.

Filed Date: 6/21/24.

Accession Number: 20240621-5213.

Comment Date: 5 p.m. ET 7/12/24.

Docket Numbers: ER24-1942-001.

Applicants: PJM Interconnection, L.L.C.

Description: Tariff Amendment: Amendment to Ministerial Clean-Up Filing in ER24-1942 to be effective 1/1/2024.

Filed Date: 6/26/24.

Accession Number: 20240626-5042.

Comment Date: 5 p.m. ET 7/17/24.

Docket Numbers: ER24-2367-000.

Applicants: NorthWestern Corporation.

Description: 205(d) Rate Filing: RS 335—Certificate of Concurrence to NorthernGrid Funding to be effective 1/31/2024.

Filed Date: 6/25/24.

Accession Number: 20240625-5165.

Comment Date: 5 p.m. ET 7/16/24.

Docket Numbers: ER24-2368-000.

Applicants: Southwest Power Pool, Inc.

Description: 205(d) Rate Filing: 4272 AECI and NextEra Energy Transmission Southwest Int Agr to be effective 9/1/2024.

Filed Date: 6/26/24.

Accession Number: 20240626-5029.

Comment Date: 5 p.m. ET 7/17/24.

Docket Numbers: ER24-2369-000.

Applicants: PJM Interconnection, L.L.C.

Description: Tariff Amendment: Notice of Cancellation of ISA, SA No. 6464; AE2-319 re: withdrawal to be effective 8/26/2024.

Filed Date: 6/26/24.

Accession Number: 20240626-5033.

Comment Date: 5 p.m. ET 7/17/24.

Docket Numbers: ER24-2370-000.

Applicants: Southwest Power Pool, Inc.

Description: 205(d) Rate Filing: 1976R14 FreeState Electric Cooperative, Inc. NITSA and NOA to be effective 9/1/2024.

Filed Date: 6/26/24.

Accession Number: 20240626-5051.

Comment Date: 5 p.m. ET 7/17/24.

Docket Numbers: ER24-2371-000.

Applicants: Southwest Power Pool, Inc.

Description: 205(d) Rate Filing: 2881R18 City of Chanute, KS NITSA NOA to be effective 9/1/2024.

Filed Date: 6/26/24.

Accession Number: 20240626-5066.

Comment Date: 5 p.m. ET 7/17/24.

Docket Numbers: ER24-2372-000.

Applicants: Southern California Edison Company.

Description: 205(d) Rate Filing: 1st Amend LGIA, Menifee Power Bank (TOT934-Q1625/SA278) + Remove eTariff Record to be effective 6/27/2024.

Filed Date: 6/26/24.

Accession Number: 20240626-5068.

Comment Date: 5 p.m. ET 7/17/24.

Docket Numbers: ER24-2373-000.

Applicants: PJM Interconnection, L.L.C.

Description: Tariff Amendment: Notice of Cancellation of WMPA, SA No. 5735; AF2-281 re: withdrawal to be effective 8/26/2024.

Filed Date: 6/26/24.

Accession Number: 20240626-5074.

Comment Date: 5 p.m. ET 7/17/24.

Docket Numbers: ER24-2374-000.

Applicants: Tri-State Generation and Transmission Association, Inc.

Description: 205(d) Rate Filing: Initial Filing of Rate Schedule FERC No. 373 to be effective 7/1/2024.

Filed Date: 6/26/24.

Accession Number: 20240626-5077.

Comment Date: 5 p.m. ET 7/17/24.

Docket Numbers: ER24-2375-000.

Applicants: Tri-State Generation and Transmission Association, Inc.

Description: Tariff Amendment: Notice of Cancellation of Rate Schedule FERC No. 295 to be effective 5/31/2024.

Filed Date: 6/26/24.

Accession Number: 20240626-5082.

Comment Date: 5 p.m. ET 7/17/24.

Docket Numbers: ER24-2376-000.

Applicants: Alabama Power Company, Georgia Power Company, Power Company.

Description: 205(d) Rate Filing: Alabama Power Company submits tariff filing per 35.13(a)(2)(iii: TVA Conditional Long-Term Firm PTP Service Agreement Filing to be effective 6/1/2024.

Filed Date: 6/26/24.

Accession Number: 20240626-5095.

Comment Date: 5 p.m. ET 7/17/24.

Docket Numbers: ER24-2377-000.

Applicants: Southwest Power Pool, Inc.

Description: 205(d) Rate Filing: 2198R36 Kansas Power Pool NITSA NOA to be effective 9/1/2024.

Filed Date: 6/26/24.

Accession Number: 20240626-5112.

Comment Date: 5 p.m. ET 7/17/24.

Docket Numbers: ER24-2378-000.

Applicants: Electric Energy, Inc.

Description: Tariff Amendment: Notice of Cancellation of MBR Tariff to be effective 6/30/2024.

Filed Date: 6/26/24.

Accession Number: 20240626-5113.

Comment Date: 5 p.m. ET 7/17/24.

Docket Numbers: ER24-2379-000.

Applicants: Electric Energy, Inc.

Description: Tariff Amendment: Notice of Cancellation of Power Contract to be effective 6/30/2024.

Filed Date: 6/26/24.

Accession Number: 20240626-5115.

Comment Date: 5 p.m. ET 7/17/24.

Docket Numbers: ER24-2380-000.

Applicants: Midwest Electric Power, Inc.

Description: Tariff Amendment: Notice of Cancellation of MBR Tariff to be effective 6/30/2024.

Filed Date: 6/26/24.

Accession Number: 20240626-5117.

Comment Date: 5 p.m. ET 7/17/24.

Docket Numbers: ER24-2381-000.

Applicants: California Independent System Operator Corporation.

Description: 205(d) Rate Filing: 2024-06-26 E-Tag Submission Timeline Clarification to be effective 6/27/2024.

Filed Date: 6/26/24.

Accession Number: 20240626-5119.

Comment Date: 5 p.m. ET 7/17/24.

Docket Numbers: ER24-2382-000.

Applicants: Public Service Company of Colorado.

Description: 205(d) Rate Filing: 2024-06-26-SS-GI-2020-10 Amnd 1—685-0.0.0 to be effective 6/27/2024.

Filed Date: 6/26/24.

Accession Number: 20240626-5129.

Comment Date: 5 p.m. ET 7/17/24.

Docket Numbers: ER24-2383-000.

Applicants: Huck Finn Solar, LLC.

Description: Market: 2024-06-26 Central Region Triennial Market Power Update for Huck Finn Solar to be effective 8/26/2024.

Filed Date: 6/26/24.

Accession Number: 20240626-5135.

Comment Date: 5 p.m. ET 8/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 26, 2024.
Debbie-Anne A. Reese,
Acting Secretary.

[FR Doc. 2024-14588 Filed 7-2-24; 8:45 am]

BILLING CODE 6717-01-P